FEDERAL COMMUNICATIONS COMMISSION

[DA 16-720]

Order Declares JuBe Communications, LLC's International Section 214 Authorization Terminated

AGENCY: Federal Communications Commission.

ACTION: Notice.

SUMMARY: In this document, the International Bureau of the Federal Communications Commission (Commission) declares the international Section 214 authorization granted to JuBe Communications, LLC (JuBe) terminated given JuBe's inability to comply with the express condition for holding the authorization. It also concludes that JuBe failed to comply with those requirements of the Communications Act of 1934, as amended (the Act) and the Commission's rules that ensure that the Commission can contact and communicate with the authorization holder and verify JuBe is still providing service, which failures have prevented any way of addressing JuBe's inability to comply with the condition of its authorization.

FOR FURTHER INFORMATION CONTACT: Cara Grayer, Telecommunications and Analysis Division, International Bureau at (202) 418-2960 or Cara.Grayer@fcc.gov.

SUPPLEMENTARY INFORMATION: This is a summary of the Commission's Order, DA 16-720, adopted and released July 1, 2016.

Background

Section 214(a) of the Act prohibits any carrier from constructing, extending, acquiring, or operating any line, and from engaging in transmission through any such line, without first obtaining a certificate of authorization from the Commission. Under Section 214(c) of the Act, the Commission “may attach to the issuance of the certificate such terms and conditions as in its judgment the public convenience and necessity may require.” On July 27, 2007, the International Bureau granted JuBe an international Section 214 authorization to provide global or limited global facility-based service and global or limited global resale service in accordance with Section 63.18(e)(1) and 63.18(e)(2) of the Commission's rules. The International Bureau granted the application on the express condition that JuBe abide by the commitments and undertakings contained in its Letter of Assurance (LOA) to the Department of Justice (DOJ), the Federal Bureau of Investigation, and the U.S. Department of Homeland Security (collectively, the Executive Branch Agencies) dated July 12, 2007. The LOA outlines a number of commitments made by JuBe to address national security, law enforcement, and public safety concerns.

On December 23, 2015, the Executive Branch Agencies notified the Commission of JuBe's non-compliance with the conditions of its authorization and requested that the Commission terminate, and declare null and void and no longer in effect, the international Section 214 authorization issued to JuBe. The Executive Branch Agencies believe that JuBe is no longer in existence. Specifically, according to the Texas state corporate Web site, JuBe voluntarily dissolved as a corporate entity and became inactive on October 14, 2010. Further, on October 19, 2015, Mr. Thomas Lynch, JuBe's designated point of contact during the application process, advised the Executive Branch Agencies that he had been unable to reach JuBe after multiple attempts through all his contacts except U.S. postal service. He noted that he presumed JuBe to be out of business. Based on this, the Executive Branch Agencies state that “JuBe is neither providing services pursuant to authorization file number ITC-214-20070607-00218 nor still in existence.”

The Commission has made significant efforts to communicate with JuBe, but has also been unable to do so. On January 19, 2016, the International Bureau sent JuBe a letter to the last addresses of record requesting that JuBe respond to the December 23, 2015 Executive Branch letter within 30 days of the letter, by February 18, 2016. JuBe did not respond. Since that time, the International Bureau has provided JuBe with additional opportunities to respond to these allegations. The International Bureau stated that failure to respond would result in termination of JuBe's international Section 214 authorization for failure to comply with conditions of its authorization. In JuBe's 2007 application, JuBe stated it was incorporated in Texas, and according to the Texas Secretary of State Web site, no records exist for JuBe Communications, LLC. To date, JuBe has not responded to any of the International Bureau or the Executive Branch Agencies' multiple requests to resolve this matter.

Discussion

We determine that JuBe's international Section 214 authorization to provide international services issued under File No. ITC-214-20070607-00218 has terminated for inability to comply with an express condition for holding the international Section 214 authorization. The International Bureau has provided JuBe with notice and opportunity to respond to the allegations in the December 23, 2015 Executive Branch letter concerning JuBe's non-compliance with the condition of the grant. JuBe has not responded to any of our multiple requests or requests from the Executive Branch Agencies. We find that JuBe's failure to respond to our multiple requests demonstrates that it is unable to satisfy the LOA conditions, upon which the Executive Branch Agencies gave their non-objection to the grant of the authorization to JuBe, and which are a condition of the grant of its international Section 214 authorization.

Furthermore, after having received an international Section 214 authorization, a carrier “is responsible for the continuing accuracy of the certifications made in its application” and must promptly correct information no longer accurate, “and in any event, within thirty (30) days.” JuBe has failed to inform the Commission of any changes in its business status of providing international telecommunications services, as required by the rules. In addition, there is no indication that JuBe is currently providing service pursuant to its international Section 214 authorization. If JuBe has discontinued service, it is also in violation of the Commission's rules requiring prior notification for such a discontinuance. Nor is there any record of JuBe having complied with Section 413 of the Act and the Commission's rules requiring it to designate an agent for service after receiving its authorization on July 27, 2007. Finally, as part of its authorization, JuBe “must file annual international telecommunications traffic and revenue as required by § 43.62.” Section 43.62(b) of the Commission's rule states that “[n]ot later than July 31 of each year, each person or entity that holds an authorization pursuant to section 214 to provide international telecommunications service shall report whether it provided international telecommunications services during the preceding calendar year.” Commission records indicate that JuBe failed to file an annual international telecommunications traffic and revenue report indicating whether or not JuBe provided services in 2015, as required by Section 43.62(b). In these circumstances, and in light of JuBe's failure to respond to the Commission's rules designed to ensure its ability to communicate with the holder of the authorization, termination also is warranted wholly apart from demonstrating JuBe's inability to satisfy the LOA conditions of its authorization.

Ordering Clauses

Accordingly, it is ordered, pursuant to Sections 4(i), 214, and 413 of the Communications Act of 1934, as amended, 47 U.S.C. 154(i), 214, 413, and Sections 1.47(h), 43.62, 63.18, 63.21, 63.22(h), 63.23(e), and 64.1195 of the Commission's rules, 47 CFR 1.47(h), 43.62, 63.18, 63.21, 63.22(h), 63.23(e), 64.1195, that the international 214 authorization issued under File No. ITC-214-20070607-00218 is hereby terminated and declared null and void.

It is further ordered that the request of the U.S. Department of Justice, the Federal Bureau of Investigation, and the U.S. Department of Homeland Security, is hereby granted, to the extent set forth in this Order.

It is further ordered that a copy of this Order shall be sent by return receipt requested to JuBe Communications, LLC at its last known addresses.

It is further ordered that a copy of this Order, or a summary thereof, shall be published in the Federal Register.

This Order is issued on delegated authority under 47 CFR 0.51, 0.261, and is effective upon release. Petitions for reconsideration under Section 1.106 of the Commission's rules, 47 CFR 1.106, or applications for review under Section 1.115 of the Commission's rules, 47 CFR 1.115, may be filed within 30 days of the date of the release of this Order.

Federal Communications Commission.
Denise Coca,
Chief, Telecommunications and Analysis Division, International Bureau.

[FR Doc. 2016-19690 Filed 8-17-16; 8:45 am]

BILLING CODE 6712-01-P